DEPARTMENT OF THE INTERIOR

Bureau of Land Management

[NV-050-5853-ES; N-75746; 7-08807]

Notice of Realty Action: Termination of Recreation and Public Purposes Segregation for N-59347; Recreation and Public Purposes Act Classification of Public Lands in Clark County, Nevada for N-75746

AGENCY: Bureau of Land Management, Interior.

ACTION: Notice of Realty Action.

SUMMARY: The Bureau of Land Management (BLM) has examined and found suitable for classification for lease and subsequent conveyance under the provisions of the Recreation and Public Purposes (R&PP) Act, as amended, approximately 25 acres of public land in Clark County, Nevada. The City of Las Vegas proposes to use the land for a public park. This land disposal action has been coordinated with the unit of local government in whose jurisdiction such lands are located for Joint Selection purposes pursuant to Sec. 4 (d)(1) of the Southern Nevada Public Lands Management Act, Pub. L. 105-263, (112 Stat. 2345).

DATES: Interested parties may submit written comments regarding the proposed lease/conveyance or classification of the lands until April 26, 2007.

ADDRESSES: Please submit written comments to the Las Vegas Field Manager, Bureau of Land Management, Las Vegas Field Office, 4701 N. Torrey Pines Drive, Las Vegas, Nevada 89130-2301.

FOR FURTHER INFORMATION CONTACT: Rebecca L. Rury, Realty Specialist, Bureau of Land Management, Las Vegas Field Office, at (702) 515-5087.

SUPPLEMENTARY INFORMATION: The purpose of this Notice of Realty Action is to terminate the segregation of the 15 acres of land in N-59347 described below and to include this land in the 25 acre R&PP application N-75746. These 15 acres of public land were classified, effective April 15, 1996, for school purposes and segregated under the R&PP Act pursuant to application N-59347 filed by the Clark County School District, 61 FR 6258 (Feb. 16, 1996). This application was rejected due to inactivity for an extended period of time, and the case was closed on May 18, 2004:

Mount Diablo Meridian, Nevada

T. 20 S., R. 59 E., sec. 12, NW¼SW¼SW¼, W½NE¼SW¼SW¼.

The area described contains approximately 15 acres in Clark County.

The following described 25 acres of public land in application N-75746 has been examined and found suitable for lease and subsequent conveyance for recreational or public purposes under the provision of the R&PP Act, as amended (43 U.S.C. 869 et seq.):

Mount Diablo Meridian, Nevada

T. 20 S., R. 59 E., sec. 12, W½NE¼SW¼SW¼, NW¼SW¼SW¼, W½SW¼SW¼SW¼, E½SE¼SW¼SW¼, except for that portion lying north and east of the centerline of Cliff Shadows Parkway.

The area described contains approximately 25 acres in Clark County.

The land is not required for any Federal purpose. Lease/conveyance is consistent with the Las Vegas Resource Management Plan, dated October 5, 1998, and would be in the public interest. The lease/conveyance, when issued, will be subject to the provisions of the R&PP Act and applicable regulations of the Secretary of the Interior, and will contain the following reservations to the United States:

1. A right-of-way thereon for ditches or canals constructed by the authority of the United States, Act of August 30, 1890 (43 U.S.C. 945); and

2. All minerals, together with the right to prospect for, mine, and remove such deposits from the lands under applicable law and such regulations as the Secretary of the Interior may prescribe.

The lease/conveyance will be subject to:

1. All valid existing rights;

2. Rights-of-way N-57071, N-74487, N-75351, and N-79090 for public utility purposes granted to Nevada Power Company, its successors, or assigns pursuant to the Federal Land Policy and Management Act (FLPMA) of October 21, 1976 (43 U.S.C. 1761);

3. Right-of-way N-66292 for water pipeline purposes granted to Las Vegas Valley Water District, its successors, or assigns pursuant to FLPMA (43 U.S.C. 1761);

4. Right-of-way N-75403 for public utility purposes granted jointly to Southwest Gas Corporation and Kern River Gas Transmission Company, their successors, or assigns pursuant to the Act of February 25, 1920 (30 U.S.C. 185);

5. Right-of-way N-61323 for Las Vegas Beltway purposes granted to Clark County, its successors, or assigns pursuant to FLPMA (43 U.S.C. 1761); and

6. Right-of-way N-80986 for roadway purposes granted to Bardon Materials, its successors, or assigns pursuant to FLPMA (43 U.S.C. 1761).

Detailed information concerning this action is available for review in the office of the Bureau of Land Management, Las Vegas Field Office, at the address listed above.

On March 12, 2007, the above described land will be segregated from all forms of appropriation under the public land laws, including the general mining laws, except for lease/conveyance under the R&PP Act, leasing under the mineral leasing laws, and disposals under the mineral material disposal laws.

Classification Comments: Interested parties may submit comments involving the suitability of the land for a public park. Comments on the classification are restricted to whether the land is physically suited for the proposal, whether the use will maximize the future use or uses of the land, whether the use is consistent with local planning and zoning, or whether the use is consistent with State and Federal programs.

Application Comments: Interested parties may submit comments regarding the specific use proposed in the application and plan of development, whether the BLM followed proper administrative procedures in reaching the decision, or any other factor not directly related to the suitability of the land for a public park.

Before including your address, phone number, e-mail address, or other personal identifying information in your comment, be advised that your entire comment—including your personal identifying information—may be made publicly available at any time. While you can ask us in your comment to withhold from public review your personal identifying information, we cannot guarantee that we will be able to do so.

Any adverse comments will be reviewed by the State Director who may sustain, vacate, or modify this realty action. In the absence of any adverse comments, this classification action will become the final determination of the Department of the Interior May 11, 2007. The lands will not be available for lease/conveyance until after the classification becomes effective.

(Authority: 43 CFR Part 2741)

Dated: February 8, 2007.
Philip Rhinehart,
Acting Assistant Field Manager, Non-Renewable Resources, Las Vegas, NV.

[FR Doc. E7-4417 Filed 3-9-07; 8:45 am]

BILLING CODE 4310-HC-P